FEDERAL COMMUNICATIONS COMMISSION

Information Collection(s) Being Reviewed by the Federal Communications Commission, Comments Requested

AGENCY: Federal Communications Commission.

ACTION: Notice; request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before April 1, 2013. If you anticipate that you will be submitting PRA comments, but find it difficult to do so within the period of time allowed by this notice, you should advise the FCC contact listed below as soon as possible.

ADDRESSES: Submit your PRA comments to Judith B. Herman, Federal Communications Commission, via the Internet at Judith-b.herman@fcc.gov. To submit your PRA comments by email send them to: PRA@fcc.gov.

FOR FURTHER INFORMATION CONTACT: Judith B. Herman, Office of Managing Director, (202) 418-0214.

SUPPLEMENTARY INFORMATION:

OMB Control Number: 3060-0496.

Title: ARMIS Operating Data Report.

Report Number: FCC Report 43-08.

Type of Review: Extension of a currently approved collection.

Respondents: Business or other for-profit entities.

Number of Respondents: 55 respondents; 55 responses.

Estimated Time per Response: 139 hours.

Frequency of Response: Annual reporting requirement.

Obligation to Respond: Mandatory. Statutory authority for this information collection is contained in 47 U.S.C. sections 11, 219(b) and 220 of the Communications Act of 1934, as amended.

Total Annual Burden: 7,645 hours.

Total Annual Cost: N/A.

Privacy Impact Assessment: N/A.

Nature and Extent of Confidentiality: In most cases, ARMIS reports do not require submission of any confidential or commercially-sensitive data. The areas in which detailed information is required are fully subject to regulation. If a respondent finds it necessary to submit a confidential or commercially-sensitive data, Section 0.459, 47 CFR contains the procedures for requesting confidential treatment of data.

Needs and Uses: The Commission will submit this expiring information collection after this comment period to obtain the full, three year clearance from the Office of Management and Budget (OMB). The Commission is requesting approval for an extension (no change in the reporting requirement). There is no change to the Commission's previous burden estimates.

The ARMIS (Automated Reporting Management Information System) reporting requirements were established by the Commission in 1987 to facilitate the timely and efficient analysis of carrier operating costs and rates of return that provide an improved basis for audits and other oversight functions; and to enhance the Commission's ability to quantify the effects of alternative policy proposals. Additional ARMIS Reports were added in 1991 and 1992. Certain incumbent local exchange carriers (LECs) were required to submit the ARMIS Reports to the Commission annually on or before April 1. See Reporting Requirements of Certain Class A and Tier 1 Telephone Companies (Parts 31, 43, 67 and 69 of the Commission's rules) CC Docket No. 86-182, Order, 2 FCC Rcd 5770 (1987), modified on recon. 3 FCC Rcd 6375 (1988); see also 47 CFR Part 43, Sections 43.21.

The information contained in FCC Report 43-08 has helped the Commission fulfill its regulatory responsibilities. These data facilitate the timely and efficient analysis of revenue requirements, rates of return and price caps, provide an improved basis for auditing and other oversight functions, and enhance the Commission's ability to quantify the effects of policy proposals. Automated reporting of these data also augments the Commission's ability to process and analyze the extensive amount of data provided in the reports.

The Commission has granted AT&T, Verizon, legacy Qwest and other similarly-situated carriers forbearance from FCC Report 43-08, except for Table III, columns FC, FD, FE and FI, business line count information. See Petition of AT&T Inc. for Forbearance under 47 U.S.C. 160 from Enforcement of Certain of the Commission's Cost Assignment Rules, WC Docket Nos. 07-21, 05-342, Memorandum Opinion and Order, 23 FCC Rcd 7302 (2008) (AT&T Cost Assignment Forbearance Order), pet. for recon pending, pet.for review pending, NASUCA v. FCC, Case No. 08-1226 (D.C. Cir. Filed June 23, 2008); Service Quality, Customer Satisfaction, Infrastructure and Operating Data Gathering, WC Docket Nos. 08-190, 07-139, 07-204, 07-273, 07-21, Memorandum Opinion and Order and Notice of Proposed Rulemaking, 23 FCC Rcd 13747 (2008) (Verizon/Qwest Cost Assignment Forbearance Order), pet. for recon. pending, pet. for review pending, NASCUA v. FCC, Case No. 08-1353 (D.C. Cir. Filed Nov. 4, 2008).

Despite this forbearance, the Commission seeks OMB approval for the extension of this information collection for three years because petitions for reconsideration and review of those forbearance decisions are currently pending before the Commission and the U.S. Court of Appeals for the D.C. Circuit.

OMB Control Number: 3060-0775.

Title: Section 64.1903, Obligations of All Incumbent Local Exchange Carriers (LECs).

Form Number: N/A.

Type of Review: Extension of a currently approved collection.

Respondents: Business or other for-profit entities.

Number of Respondents: 510 respondents; 510 responses.

Estimated Time per Response: 500 hours to 6,056 hours.

Frequency of Response: Recordkeeping requirements.

Obligation to Respond: Mandatory. Statutory authority for this information collection is contained in 47 U.S.C. sections 151, 152, 154, 201, 202, 251, 271, 272 and 303(r) of the Communications Act of 1934.

Total Annual Burden: 310,560 hours.

Total Annual Cost: $15,217,440.

Privacy Impact Assessment: N/A.

Nature and Extent of Confidentiality: There is no need for confidentiality.

Needs and Uses: The Commission will submit this expiring information collection after this comment period to obtain the full, three year clearance from the Office of Management and Budget (OMB). The Commission is requesting approval for an extension (no change in the recordkeeping requirements). There are no changes to the Commission's previous burden estimates.

Section 64.1903 imposes recordkeeping requirements on independent local exchange carriers (LECs) offering in-region, interstate, interexchange services or in-region international interexchange services. Among other requirements, section 64.1903 requires independent LECs and their affiliates to maintain separate books of account. This regulation does not require that the affiliate maintain books of account that comply with the Commission's Part 32 rules; rather it refers to the fact that as a separate legal entity, the international, interexchange affiliate must maintain its own books of account in the ordinary course of business.

OMB Control Number: 3060-0895.

Title: Numbering Resource Optimization.

Form Number: FCC Form 502.

Type of Review: Extension of a currently approved collection.

Respondents: Business or other for-profit entities and state, local or tribal government.

Number of Respondents: 2,780 respondents; 7,385 responses.

Estimated Time per Response: 1 hour to 44.4 hours

Frequency of Response: On occasion and semi-annual reporting requirements and recordkeeping requirement.

Obligation to Respond: Mandatory. Statutory authority for this information collection is contained in 47 U.S.C. sections 151, 153, 154, 201-205 and 251 of the Communications Act of 1934.

Total Annual Burden: 131,782 hours.

Total Annual Cost: $3,462,800.

Privacy Impact Assessment: N/A.

Nature and Extent of Confidentiality: Disaggregated, carrier specific forecast and utilization data will be treated as confidential and will be exempt from public disclosure under 5 U.S.C. 552(b)(4).

Needs and Uses: The Commission will submit this expiring information collection after this comment period to obtain the full, three year clearance from the Office of Management and Budget (OMB). There are no changes to the reporting and/or recordkeeping requirements. There are no changes to the Commission's previous burden estimates.

The data collected on FCC Form 502 helps the Commission manage the ten-digit North American Numbering Plan (NANP), which is currently being used by the United States and 19 other countries. Under the Communications Act of 1934, as amended, the Commission was given “exclusive jurisdictions over those portions of the North American Numbering Plan that pertains to the United States.” Pursuant to that authority, the Commission conducted a rulemaking in March 2000 that the Commission found that mandatory data collection is necessary to efficiently monitor and manage numbering use. The Commission received OMB approval for this requirement and the following:

(1) Utilization/Forecast Report;

(2) Application for initial numbering resource;

(3) Application for growth numbering resources;

(4) Recordkeeping requirement;

(5) Notifications by state commissions;

(6) Demonstration to state commission; and

(7) Petitions for additional delegation of numbering authority.

The data from this information collection is used by the FCC, state regulatory commissions, and the NANPA to monitor numbering resource utilization by all carriers using the resource and to project the dates of area code and NANP exhaust.

OMB Control Number: 3060-1044.

Title: Review of the Section 251 Unbundling Obligations of Incumbent Local Exchange Carriers, CC Docket No. 03-338 and WC Docket No. 04-313, FCC 04-290, Order on Remand.

Form Number: N/A.

Type of Review: Extension of a currently approved collection.

Respondents: Business or other for-profit entities, not-for-profit institutions, and state, local or tribal government.

Number of Respondents: 645 respondents; 645 responses.

Estimated Time per Response: 8 hours.

Frequency of Response: On occasion reporting requirement, recordkeeping requirement and third party disclosure requirement.

Obligation to Respond: Required to obtain or retain benefits. Statutory authority for this information collection is contained in 47 U.S.C. section 251 of the Communications Act of 1934.

Total Annual Burden: 5,160 hours.

Total Annual Cost: N/A.

Privacy Impact Assessment: N/A.

Nature and Extent of Confidentiality: The Commission is not requesting respondents to submit or disclose confidential information. However, in certain circumstances, respondents may voluntarily choose to submit confidential information pursuant to applicable Commission confidentiality rules.

Needs and Uses: The Commission will submit this expiring information collection after this comment period to obtain the full, three year clearance from the Office of Management and Budget (OMB). The Commission is requesting approval for an extension (no change in the reporting, recordkeeping and/or third party disclosure requirements). There are no changes to the Commission's previous burden estimates. Section 251 is designed to accelerate private sector and deployment of telecommunications technologies and services by spurring competition. In order to foster competition in the local telephone market, the Telecommunications Act of 1996 requires incumbent local exchange carriers (incumbent LECs) to share certain elements of their local telephone networks, providing them to other carriers at reasonable prices on an unbundled basis. These “unbundled network elements (UNEs)” are necessary for competition because the only alternative, building entire new telephone networks, would be prohibitively expensive for new entrants. In Order FCC 03-36, the Commission adopted rules and regulation designed to eliminate operation barriers to competition in the telecommunications services market and implement certain provisions of section 251, including the UNE obligations of incumbent LECs. In the Order on Remand, FCC 04-290, the Commission responded to a decision by the United States Court of Appeals for the District of Columbia that vacated the “sub-delegation” of authority to state commissions and vacated and remanded certain nationwide impairment findings, including mass market switching and dedicated transport.

OMB Control Number: 3060-1138.

Title: Sections 1.49 and 1.54, Forbearance Petition Filing Requirements.

Form Number: N/A.

Type of Review: Extension of a currently approved collection.

Respondents: Business or other for-profit entities.

Number of Respondents: 10 respondents; 10 responses.

Estimated Time per Response: 640 hours.

Frequency of Response: On occasion reporting requirement, recordkeeping requirement and third party disclosure requirement.

Obligation to Respond: Required to obtain or retain benefits. Statutory authority for this information collection is contained in 47 U.S.C. sections 10, 151, 154(i), 154(j), 155(c), 160, 201 and 303(r) of the Communications Act of 1934.

Total Annual Burden: 6,400 hours.

Total Annual Cost: N/A.

Privacy Impact Assessment: N/A.

Nature and Extent of Confidentiality: The Commission is not requesting respondents to submit or disclose confidential information. Respondents may, however, request confidential treatment for information they believe to be confidential under 47 CFR 0.459 of the Commission's rules.

Needs and Uses: The Commission will submit this expiring information collection after this comment period to obtain the full, three year clearance from the Office of Management and Budget (OMB). The Commission is requesting approval for an extension (no change in the reporting, recordkeeping and/or third party disclosure requirements).

Under section 10 of the Communications Act of 1934, as amended, telecommunications carriers may petition the Commission to forbear from applying to a telecommunications carrier any statutory provision or Commission regulation. When a carrier petitions the Commission for forbearance, section 10 requires the Commission to make three determinations with regard to the need for the challenged provision or regulation. If the Commission fails to act within one year (extended by three additional months, if necessary) the petition is “deemed granted” by operation of law. These determinations require complex, fact-intensive analysis, e.g., “whether forbearance from enforcing the provision or regulation will promote competitive market conditions.” Under the new filing procedures, the Commission requires that petitions for forbearance must be “complete as filed” and explain in detail what must be included in the forbearance petition. The Commission also incorporates by reference its rule, 47 CFR 1.49, which states the Commission's standard “specifications as to pleadings and documents.” Precise filing requirements are necessary because of section 10's strict time limit for Commission action. Also, commenters must be able to understand clearly the scope of the petition in order to comment on it. Finally, standard filing procedures inform petitioners precisely what the Commission expects from them in order to make the statutory determinations that the statute requires.

Federal Communications Commission.
Marlene H. Dortch,
Secretary.

[FR Doc. 2013-01767 Filed 1-28-13; 8:45 am]

BILLING CODE 6712-01-P